DEPARTMENT OF DEFENSE

Office of the Secretary

Meeting of the Advisory Council on Dependents' Education

AGENCY: Department of Defense Education Activity (DoDEA).

ACTION: Open meeting notice.

SUMMARY: Pursuant to the Federal Advisory Committee Act, Appendix 2 of title 5, United States Code, Public Law 92-463, notice is hereby given that a meeting of the Advisory Council on Dependents' Education (ACDE) is scheduled to be held on October 3,2003, from 8 a.m. to 5 p.m. The meeting will be held at the Hotel Oranien Wiesbaden, Platter Strasse 2, Wiesbaden, Germany. The purpose of the ACDE is to recommend to the Director, DoDEA, general policies for the operation of the Department of Defense Dependents Schools (DoDDS); to provide the Director with information about effective educational programs and practices that should be considered by DoDDS; and to perform other tasks as may be required by the Secretary of Defense. The meeting emphases will be on the current operational qualities of 15 schools in DoDDS, the institutionalized school improvement processes in DoDDS and other educational matters. For further information contact Mr. Jim Jarrard, at 703-696-4471, extension 1964.

Dated: September 24, 2003.
Patricia L. Toppings,
Alternate OSD Federal Register Liaison Officer, Department of Defense.

[FR Doc. 03-24986 Filed 10-1-03; 8:45 am]

BILLING CODE 5001-08-M